DEPARTMENT OF ENERGY

Office of Energy Efficiency and Renewable Energy

Request for Information on Landscape Design for Sustainable Bioenergy Systems

AGENCY: Office of Energy Efficiency and Renewable Energy, Department of Energy (DOE).

ACTION: Request for Information.

SUMMARY: The U.S. Department of Energy (DOE) invites public comment on its Request for Information (RFI) regarding Landscape Design for Sustainable Bioenergy Systems. The purpose of this RFI is to solicit feedback from bioenergy stakeholders on landscape design approaches that integrate cellulosic bioenergy feedstock production into existing agricultural and forestry systems while maintaining or enhancing environmental and socio-economic sustainability including ecosystem services and food, feed, and fiber production.

DATES: Comments regarding the RFI must be received on or before September 2, 2014.

ADDRESSES: The RFI is available at https://eere-exchange.energy.gov.

FOR FURTHER INFORMATION CONTACT: Responses to the RFI and questions should be sent via email or email attachments to BETOLandscapeDesignRFI@ee.doe.gov. Further instructions can be found in the RFI document posted on EERE exchange.

SUPPLEMENTARY INFORMATION: The U.S. Department of Energy (DOE) Bioenergy Technologies Office plans to support the continued increase of sustainably produced domestic bioenergy from renewable feedstocks. This Request for Information (RFI) is directed at landscape design approaches for integrating cellulosic bioenergy feedstock production into existing agricultural and forestry systems in a way that maintains or improves environmental sustainability—specifically, greenhouse gas mitigation, water quality, water quantity, soil quality, air quality, and biodiversity. “Landscape design” refers to a spatially explicit plan for resource allocation and management that meets multiple desired objectives including environmental (maintains or enhances ecosystem services), social (is acceptable to relevant stakeholders), and economic (maintains or improves livelihoods and landowner profitability). DOE is seeking information on cost-effective, feasible approaches for testing the landscape design approach for increasing bioenergy feedstock production at a watershed, multi-landowner, or comparable spatial scale through a combination of modeling, data collection, field research, and engagement with landowners and other relevant stakeholders. DOE is specifically interested in information on appropriate experimental designs for assessing comprehensive environmental sustainability indicators, potential barriers to implementing landscape design, approaches for assessing needed feedstock logistic systems, and possible projects to test landscape design approaches for bioenergy systems on the landscape.

This is solely a request for information and not a Funding Opportunity Announcement (FOA). EERE is not accepting applications for funding project proposals.

Issued in Golden, CO, on August 14, 2014.
Jonathan Male,
Director, Bioenergy Technologies Office, Energy Efficiency and Renewable Energy.

[FR Doc. 2014-19767 Filed 8-19-14; 8:45 am]

BILLING CODE 6450-01-P